DEPARTMENT OF COMMERCE

International Trade Administration

[A-570-904]

Certain Activated Carbon from the People's Republic of China: Notice of Partial Rescission of Antidumping Duty Administrative Review

AGENCY: Import Administration, International Trade Administration, Department of Commerce.

EFFECTIVE DATE: October 1, 2008.

FOR FURTHER INFORMATION CONTACT: Catherine Bertrand, AD/CVD Operations, Office 9, Import Administration, International Trade Administration, U.S. Department of Commerce, 14th Street and Constitution Avenue, NW, Washington DC 20230; telephone-(202) 482-3207.

SUPPLEMENTARY INFORMATION: Background

On June 4, 2008, the Department of Commerce (the “Department”) published a notice of initiation of an administrative review of the antidumping duty order on certain activated carbon from the People's Republic of China (“PRC”) covering the period October 11, 2006 March 31, 2008. See Initiation of Antidumping and Countervailing Duty Administrative Reviews and Requests for Revocation in Part, 73 FR 31813 (June 4, 2008).

July 22, 2008, the Department rescinded the administrative review with respect to 57 companies. Calgon Carbon Corporation and Norit Americas Inc. (“Petitioners”) withdrew their request for review of these companies and were the only parties to request review of the aforementioned 57 companies. See Certain Activated Carbon From the People's Republic of China: Notice of Partial Rescission of Antidumping Duty Administrative Review in Part, 73 FR 42550 (July 22, 2008).

September 16, 2008, Petitioners withdrew their request for an administrative review for the following 19 companies: Datong Forward Activated Carbon Co., Ltd.; Datong Hongtai Activated Carbon Co., Ltd.; Datong Huibao Activated Carbon Co., Ltd.; Datong Juqiang Activated Carbon Co., Ltd.; Datong Locomotive Coal & Chemicals Co., Ltd.; Datong Yunguang Chemicals Plant; Huairen Jinbei Chemical Co., Ltd.; Ningxia Guanghua A/C Co., Ltd.; Nuclear Ningxia Activated Carbon Co., Ltd.; Panshan Import and Export Corporation; Pingluo Yu Yang Activated Carbon Co., Ltd.; Shanxi DMD Corporation; Shanxi Industry Technology Trading Co., Ltd.; Shanxi Newtime Co., Ltd.; Shanxi Sincere Industrial Co., Ltd.; Shanxi Xinhua Chemical Co., Ltd.; United Manufacturing International (Beijing) Ltd.; Xingtai Coal Chemical Co., Ltd.; Zuoyan Bright Future Activated Carbon Plant. Petitioners were the only party to request a review of these companies.

Partial Rescission

Pursuant to 19 CFR 351.213(d)(1), the Secretary will rescind an administrative review, in whole or in part, if a party who requested the review withdraws the request within 90 days of the date of publication of notice of initiation of the requested review, and the Secretary may extend this time limit if it is reasonable to do so. The deadline to withdraw administrative review requests made by the original requesting parties was September 2, 2008. On August 29, 2008, Petitioners requested that the Department extend this deadline. On August 29, 2008, the Department granted a three day extension to September 5, 2008. See Letter to All Interested Parties (August 29, 2008). On September 4, 2008, Petitioners requested an additional extension to the September 5, 2008 deadline. On September 4, 2008, the Department granted an 11-day extension to September 16, 2008. See Letter to All Interested Parties (September 4, 2008). On September 16, 2008, Petitioners requested withdrawal of their requests for administrative review of the 19 companies listed above. Because Petitioners' withdrawal of requests for review is timely and because no other party requested a review of the aforementioned companies, in accordance with 19 CFR 351.213(d)(1), we are rescinding this review with respect to the above-listed companies.

Assessment Rates

The Department will instruct U.S. Customs and Border Protection (“CBP”) to assess antidumping duties on all appropriate entries. For those companies for which this review has been rescinded and which have a separate rate, antidumping duties shall be assessed at rates equal to the cash deposit of estimated antidumping duties required at the time of entry, or withdrawal from warehouse, for consumption, in accordance with 19 CFR 351.212(c)(2). The Department intends to issue appropriate assessment instructions directly to CBP 15 days after publication of this notice.

Notification to Importers

This notice serves as a final reminder to importers for whom this review is being rescinded, as of the publication date of this notice, of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification Regarding Administrative Protective Orders

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: September 25, 2008.
Stephen J. Claeys,
Deputy Assistant Secretary for Import Administration.

[FR Doc. E8-23149 Filed 9-30-08; 8:45 am]

BILLING CODE 3510-DS-S